DEPARTMENT OF LABOR

Occupational Safety and Health Administration

[Docket Number: OSHA-2014-0004]

Whistleblower Protection Advisory Committee

AGENCY: Occupational Safety and Health Administration (OSHA), DOL.

ACTION: Request for nominations to serve on the Whistleblower Protection Advisory Committee.

SUMMARY: The Assistant Secretary of Labor for Occupational Safety and Health requests nominations for membership on the Whistleblower Protection Advisory Committee (WPAC).

DATES: Nominations for WPAC must be submitted (postmarked, sent, transmitted, or received) by May 12, 2014.

ADDRESSES: You may submit nominations for WPAC, identified by the OSHA Docket No., OSHA-2014-0004, by any of the following methods:

Electronically: Nominations, including attachments, may be submitted electronically at http://www.regulations.gov, which is the Federal eRulemaking Portal. Follow the instructions online for making electronic submissions.

Facsimile: If your nomination and supporting materials, including attachments, do not exceed 10 pages, you may fax them to the OSHA Docket Office at (202) 693-1648.

Mail, hand delivery, express mail, messenger or courier service: Submit your nominations and supporting materials to the OSHA Docket Office, Docket No. OSHA-2014-0004, U.S. Department of Labor, Room N-2625, 200 Constitution Avenue NW., Washington, DC 20210; telephone (202) 693-2350 (OSHA's TTY number is (877) 889-5627). Deliveries (hand, express mail, messenger and courier service) are accepted during the Department of Labor's and Docket Office's normal business hours, 8:15 a.m.-4:45 p.m., e.t.

Instructions: All nominations and supporting materials for WPAC must include the Agency name and docket number for this Federal Register notice (Docket No. OSHA-2014-0004). Because of security-related procedures, submitting nominations by regular mail may result in a significant delay in their receipt. Please contact the OSHA Docket Office for information about security procedures for submitting nominations by hand delivery, express delivery, and messenger or courier service. For additional information on submitting nominations see the “Public Participation—Submission of Nominations and Access to Docket” heading in the SUPPLEMENTARY INFORMATION section below.

Submissions in response to this Federal Register notice, including personal information provided, are posted without change at http://www.regulations.gov. Therefore, OSHA cautions interested parties about submitting personal information such as social security numbers and dates of birth.

Docket: To read or download submissions or other material in the docket, go to http://www.regulations.gov or the OSHA Docket Office at the address above. All documents in the docket are listed in the http://www.regulations.gov index; however, some information (e.g., copyrighted material) is not publicly available to read or download through that Web site. All submissions, including copyrighted material, are available for inspection and copying at the OSHA Docket Office.

FOR FURTHER INFORMATION CONTACT: Meghan Smith, OSHA, Directorate of Whistleblower Protection Programs, U.S. Department of Labor, Room N-4624, 200 Constitution Avenue NW., Washington, DC 20210; telephone (202) 693-2199; email address smith.meghan.p@dol.gov.

SUPPLEMENTARY INFORMATION: The Assistant Secretary of Labor for Occupational Safety and Health invites interested individuals to submit nominations for membership on WPAC.

Background. The WPAC advises the Secretary of Labor (the Secretary) and the Assistant Secretary of Labor for Occupational Safety and Health (the Assistant Secretary) on ways to improve the fairness, efficiency, and transparency of OSHA's whistleblower investigations. WPAC is a continuing advisory body and operates in compliance with the Federal Advisory Committee Act (5 U.S.C. App. 2) and its implementing regulations (see “Authority and Signature” section).

WPAC membership.

WPAC is comprised of 12 members, who the Secretary appoints to staggered terms not to exceed two years. OSHA is seeking to fill 12 positions on WPAC that will become vacant on January 1, 2015. Because this is the first time that OSHA is staggering terms for WPAC members, six members will be appointed to one-year terms and six will be appointed to two-year terms. Thereafter, all members will be appointed to two-year terms. The composition of WPAC and categories of new members to be appointed to one-year terms are as follows:

• Two management representatives who are employers or are from employer associations in industries covered by one or more of the whistleblower laws;

• Two labor representatives who are workers or from worker advocacy organizations in industries covered by one or more of the whistleblower laws;

• One member represents the State OSH Plan states; and

• One public representative from colleges, universities, non-partisan think tanks, and/or other entities, that have extensive knowledge and expertise on whistleblower statutes and issues.

The composition of WPAC and categories of new members to be appointed to two-year terms are as follows:

• Two management representatives who are employers or are from employer associations in industries covered by one or more of the whistleblower laws;

• Two labor representatives who are workers or from worker advocacy organizations in industries covered by one or more of the whistleblower laws; and

• Two public representatives from colleges, universities, non-partisan think tanks, and/or other entities, that have extensive knowledge and expertise on whistleblower statutes and issues.

In addition, the committee will also have three Ad hoc/Ex-officio/Non-voting members who are regular government employees from other Federal Government agencies. They will be selected by the Secretary of Labor from Departments that have jurisdiction over statutes with whistleblower provisions, for example, the Securities and Exchange Commission (Sarbanes-Oxley Act), or the Department of Transportation's Federal Aviation Administration (Wendell H. Ford Aviation Investment and Reform Act for the 21st Century), or the Federal Railroad Administration (Federal Railroad Safety Act).

If a vacancy occurs before a term expires, the Secretary may appoint a new member who represents the same interest as the predecessor to serve for the remainder of the unexpired term. The committee meets at least two times a year.

Nomination requirements. Any individual or organization may nominate one or more qualified persons for membership. Submissions of nominations must include the following information:

1. The nominee's name, contact information and current occupation or position;

2. The nominee's resume or curriculum vitae, including prior membership on WPAC and other relevant organizations, associations and committees;

3. Category of membership (management, labor, state plan, or academic/extensive whistleblower knowledge) the nominee is qualified to represent;

4. A summary of the nominee's background, experience and qualifications that address the nominee's suitability to serve on WPAC;

5. Articles or other documents the nominee has authored that indicate the nominee's knowledge, experience and expertise in whistleblowing; and

6. A statement that the nominee is aware of the nomination, is willing to regularly attend and participate in WPAC meetings, and has no apparent conflicts of interest that would preclude membership on WPAC.

Membership selection. WPAC members will be selected on the basis of their experience, knowledge, and competence in the field of whistleblower protection. The information received through this nomination process, in addition to other relevant sources of information, will assist the Secretary in appointing members to serve on WPAC. In selecting WPAC members, the Secretary will consider individuals nominated in response to this Federal Register notice, as well as other qualified individuals.

Before candidates are appointed, the U.S. Department of Labor (Department) conducts a basic background check using publically available, Internet-based sources.

The Department is committed to bringing greater diversity of thought, perspective and experience to its advisory committees. In addition, the Department encourages nominees of all races, genders, ages, disabilities and sexual orientations to apply.

Instructions for submitting nominations. Interested individuals may submit nominations and supplemental materials using one of the methods listed in the ADDRESSES section. All nominations, attachments and other materials must identify the docket number for this Federal Register notice (Docket No. OSHA-2014-0004). You may supplement electronic nominations by uploading document files electronically. If, instead, you wish to submit additional materials in reference to an electronic or FAX submission, you must submit them to the OSHA Docket Office (see ADDRESSES section). The additional material must clearly identify your electronic or FAX submission by name and docket number (Docket No. OSHA-2014-0004) so that the materials can be attached to your submission.

Because of security-related procedures, the use of regular mail may cause a significant delay in the receipt of nominations. For information about security procedures concerning the delivery of materials by hand, express delivery, messenger or courier service, please contact the OSHA Docket Office (see ADDRESSES section).

All submissions in response to this Federal Register notice are posted without change at http://www.regulations.gov. Therefore, OSHA cautions interested parties about submitting personal information, such as Social Security numbers and birthdates. Guidance on submitting nominations and materials in response to this Federal Register notice is available at http://www.regulations.gov and from the OSHA Docket Office.

Access to docket and other materials. To read or download nominations and additional materials submitted in response to this Federal Register notice, go to Docket No. OSHA-2013-0013 at http://www.regulations.gov. All submissions are listed in the index of that docket. However, some documents (e.g., copyrighted material) are not publicly available to read or download through that Web page. All submissions, including copyrighted material, are available for inspection and copying at the OSHA Docket Office. Contact the OSHA Docket Office for information about materials not available through http://www.regulations.gov and for assistance in using the internet to locate submissions.

Electronic copies of this Federal Register notice are available at http://www.regulations.gov. This document, as well as news releases and other relevant information, also is available at OSHA's Web page at http://www.osha.gov.

Authority and Signature

David Michaels, Ph.D., MPH, Assistant Secretary of Labor for Occupational Safety and Health, directed the preparation of this notice under the authority granted by the Federal Advisory Committee Act (FACA), as amended (5 U.S.C. App. 2), its implementing regulations (41 CFR Part 102-3), chapter 1600 of Department of Labor Management Series 3 (Mar. 17, 2008), Secretary of Labor's Order 1-2012 (Jan. 18, 2012), 77 FR 3912 (Jan. 25, 2012), and the Secretary of Labor's authority to administer the whistleblower provisions found in Section 11(c) of the Occupational Safety and Health Act, 29 U.S.C. 660(c); the Surface Transportation Assistance Act, 49 U.S.C. 31105; the Asbestos Hazard Emergency Response Act, 15 U.S.C. 2651; the International Safe Container Act, 46 U.S.C. 80507; the Safe Drinking Water Act, 42 U.S.C. 300j-9(i); the Federal Water Pollution Control Act, 33 U.S.C. 1367; the Toxic Substances Control Act, 15 U.S.C. 2622; the Solid Waste Disposal Act, 42 U.S.C. 6971; the Clean Air Act, 42 U.S.C. 7622; the Comprehensive Environmental Response, Compensation, and Liability Act, 42 U.S.C. 9610; the Energy Reorganization Act, 42 U.S.C. 5851; the Wendell H. Ford Aviation Investment and Reform Act for the 21st Century, 49 U.S.C. 42121; the Sarbanes-Oxley Act, 18 U.S.C. 1514A; the Pipeline Safety Improvement Act, 49 U.S.C. 60129; the Federal Railroad Safety Act, 49 U.S.C. 20109; the National Transit Systems Security Act, 6 U.S.C. 1142; the Consumer Product Safety Improvement Act, 15 U.S.C. 2087; Section 1558 of the Affordable Care Act, P.L. 111-148; the Consumer Financial Protection Act of 2010, 12 U.S.C.A. 5567, the Seaman's Protection Act, 46 U.S.C. 2114, Section 402 of the FDA Food Safety Modernization Act, P.L. 111-353, and the Moving Ahead for Progress in the 21st Century Act, 49 U.S.C. 30171.

Signed at Washington, DC, on March 7, 2014.
David Michaels,
Assistant Secretary of Labor for Occupational Safety and Health.

[FR Doc. 2014-05438 Filed 3-12-14; 8:45 am]

BILLING CODE 4510-26-P